ENVIRONMENTAL PROTECTION AGENCY

40 CFR Part 52

[EPA-R08-OAR-2007-0662; FRL-9262-5]

Disapproval and Promulgation of Air Quality Implementation Plans; Montana; Revisions to the Administrative Rules of Montana—Air Quality, Subchapter 7, Subchapter 16 and Subchapter 17

AGENCY: Environmental Protection Agency (EPA).

ACTION: Proposed rule; extension of the comment period.

SUMMARY: EPA is extending the comment period for a proposed rule which published on January 6, 2011 (76 FR 758). In the 76 FR 758 Federal Register, EPA proposed to disapprove the revisions and new rules as submitted by the State of Montana on October 16, 2006 and November 1, 2006. EPA found that these revisions and new rules, pertaining to the regulation of oil and gas well facilities and applicability to Montana's air quality permitting requirements, do not meet the requirements of the Clean Air Act and EPA's Minor New Source Review (NSR) regulations. The 76 FR 758 Federal Register also stated that comments must be received on or before February 7, 2011. EPA is extending the comment period through February 28, 2011, due to a request from several commenters for an extension.

DATES: Comments must be received on or before February 28, 2011.

ADDRESSES: Submit your comments, identified by Docket ID No. EPA-R08-OAR-2007-0662, by one of the following methods:

• www.regulations.gov. Follow the on-line instructions for submitting comments.

• E-mail: leone.kevin@epa.gov.

• Fax: (303) 312-6064 (please alert the individual listed in FOR FURTHER INFORMATION CONTACT if you are faxing comments).

• Mail: Callie Videtich, Director, Air Program, Environmental Protection Agency (EPA), Region 8, Mailcode 8P-AR, 1595 Wynkoop St., Denver, Colorado 80202-1129.

• Hand Delivery: Callie Videtich, Director, Air Program, Environmental Protection Agency (EPA), Region 8, Mail Code 8P-AR, 1595 Wynkoop St., Denver, Colorado 80202-1129. Such deliveries are only accepted Monday through Friday, 8 a.m. to 4:30 p.m., excluding Federal holidays. Special arrangements should be made for deliveries of boxed information.

• For additional information on submitting comments, see the January 6, 2011 (76 FR 758) proposed rule.

FOR FURTHER INFORMATION CONTACT: Kevin Leone, Air Program, Mail Code 8P-AR, Environmental Protection Agency (EPA), Region 8, 1595 Wynkoop St., Denver, Colorado 80202-1129, phone (303) 312-6227, or e-mail leone.kevin@epa.gov.

Dated: January 27, 2011.
Carol Rushin,
Deputy Regional Administrator, Region 8.

[FR Doc. 2011-2607 Filed 2-4-11; 8:45 am]

BILLING CODE 6560-50-P